DEPARTMENT OF TRANSPORTATION

Federal Transit Administration

Notice To Rescind the Record of Decision (ROD) for the North Metro Corridor Project in the City of Denver, Commerce City, Thornton, Northglenn, and Adams County, Colorado

AGENCY: Federal Transit Administration, DOT.

ACTION: Rescind the Record of Decision.

SUMMARY: The Federal Transit Administration (FTA), in cooperation with the Regional Transportation District (RTD), is issuing this notice to advise the public that the Record of Decision (ROD) for the proposed North Metro Corridor project in Denver, Colorado is being rescinded.

FOR FURTHER INFORMATION CONTACT: Mr. David L. Beckhouse, Team Leader for Planning and Project Development, Federal Transit Administration Region VIII, 12300 West Dakota Avenue, Suite 310, Lakewood, CO 80228, phone 720-963-3306, email David.Beckhouse@dot.gov.

SUPPLEMENTARY INFORMATION: The FTA, as the lead federal agency, in cooperation with the Regional Transportation District published a ROD on April 22, 2011 for the North Metro Corridor project, an 18-mile commuter rail and track system to connect Denver Union Station and the State Highway 7/162nd Avenue area in the Denver, Colorado area.

Since that time, RTD notified FTA that federal funds will not be utilized during the final design and construction of the project. Therefore, the FTA has determined that the ROD for the Final Environmental Impact Statement dated January 3, 2011 will be rescinded since there will be no federal action, and the requirements of the National Environmental Policy Act pursuant to 42 U.S.C. 4321, et se. and 23 Code of Federal Regulations 771 no longer apply.

Comments and questions concerning the proposed action should be directed to FTA at the address provided above.

Dated: October 31, 2014.
Linda M. Gehrke,
Regional Administrator, Federal Transit Administration, Region VIII.

[FR Doc. 2014-26370 Filed 11-5-14; 8:45 am]

BILLING CODE P